DEPARTMENT OF DEFENSE

Department of the Navy

32 CFR Part 706

Certifications and Exemptions Under the International Regulations for Preventing Collisions at Sea, 1972

AGENCY: Department of the Navy, DoD.

ACTION: Final rule.

SUMMARY: The Department of the Navy (DoN) is amending its certifications and exemptions under the International Regulations for Preventing Collisions at Sea, 1972, as amended (72 COLREGS), to reflect that the Deputy Assistant Judge Advocate General (DAJAG)(Admiralty and Maritime Law) has determined that USS ZUMWALT (DDG 1000) is a vessel of the Navy which, due to its special construction and purpose, cannot fully comply with certain provisions of the 72 COLREGS without interfering with its special function as a naval ship. The intended effect of this rule is to warn mariners in waters where 72 COLREGS apply.

DATES: This rule is effective January 4, 2016 and is applicable beginning November 18, 2015.

FOR FURTHER INFORMATION CONTACT: Commander Theron R. Korsak, (Admiralty and Maritime Law), Office of the Judge Advocate General, Department of the Navy, 1322 Patterson Ave. SE., Suite 3000, Washington Navy Yard, DC 20374-5066, telephone 202-685-5040.

SUPPLEMENTARY INFORMATION: Pursuant to the authority granted in 33 U.S.C. 1605, the DoN amends 32 CFR part 706.

This amendment provides notice that the DAJAG (Admiralty and Maritime Law), under authority delegated by the Secretary of the Navy, has certified that USS ZUMWALT (DDG 1000) is a vessel of the Navy which, due to its special construction and purpose, cannot fully comply with the following specific provisions of 72 COLREGS without interfering with its special function as a naval ship: Annex I paragraph 2 (a)(i), pertaining to the location of the forward masthead light at a height not less than 6 meters above the hull; Annex I, paragraph 2(g) pertaining to the placement of sidelights above the hull of the vessel; Annex I, paragraph 2(i)(iii), pertaining to the equally spaced vertical separation of three task lights; and Annex I, paragraph 2(k) as described in Rule 30 (a)(i), pertaining to the vertical separation between anchor lights, and the location of the forward anchor light at a height of not less than 6 meters above the hull; Annex I, paragraph 3(a), pertaining to the location of the forward masthead light in the forward quarter of the ship, and the horizontal distance between the forward and after masthead lights; Annex I, paragraph 3(c), pertaining to the task lights placed at a horizontal distance of not less than 2 meters from the fore and aft centerline of the vessel. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), Vessels.

For the reasons set forth in the preamble, the DoN amends part 706 of title 32 of the Code of Federal Regulations as follows:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended by:

a. In Table One, adding, in alpha numerical order, by vessel number, an entry for USS ZUMWALT (DDG 1000);

b. In Table Three, adding, in alpha numerical order, by vessel number, an entry for USS ZUMWALT (DDG 1000);

c. In Table Four, under paragraph 15, adding, in alpha numerical order, by vessel number, an entry for USS ZUMWALT (DDG 1000);

d. In Table Four, under paragraph 19, adding, in alpha numerical order, by vessel number, an entry for USS ZUMWALT (DDG 1000);

e. In Table Four, under paragraph 22, adding, in alpha numerical order, by vessel number, an entry for USS ZUMWALT (DDG 1000); and

f. In Table Five, adding, in alpha numerical order, by vessel number, an entry for USS ZUMWALT (DDG 1000).

§ 706.2 Certifications of the Secretary of the Navy Under Executive Order 11964 and 33 U.S.C. 1605.

* * * * *

Table One
Vessel | Number | Distance in meters of forward masthead light below minimum required height § 2(a)(i) Annex 1
* * * * * * *
USS ZUMWALT | DDG 1000 | 2.55
* * * * * * *

* * * * *

Table Three
Vessel | Number | Masthead lights arc of visibility; rule 21(a) | Side lights arc of visibility; rule 21(b) | Stern light arc of visibility; rule 21(c) | Side lights distance inboard of ship's sides in meters 3(b) annex 1 | Stern light, distance forward of stern in meters; rule 21(c) | Forward anchor light, height above hull in meters; 2(K) annex 1 | Anchor lights relationship of aft light to forward light in meters 2(K) annex 1
USS ZUMWALT | DDG 1000 |  |  |  |  |  | 5.3 | 2.99 below.
* * * * * * *

* * * * *

* * * * *

15. * * *

Table Four
Vessel | Number | Horizontal distance from the fore and aft centerline of the vessel in the athwartship direction
* * * * * * *
USS ZUMWALT | DDG 1000 | FWD Lower: ¹ 0.31 meters. FWD Middle: ¹ 0.31 meters. FWD Upper: ¹ 0.29 meters. AFT Lower: ¹ 1.04 meters. AFT Middle: ¹ 1.05 meters. AFT Upper: ¹ 1.06 meters.
* * * * * * *
¹ On DDG 1000, the ship does not have a traditional mast. To achieve the effect of a “single, all-around light,” multiple sets of task lights are embedded into each of the four faces of the ship's superstructure. Except when viewing the ship from dead ahead, dead astern or broadside, two deckhouse surfaces are visible; consequently, two sets of task lights are visible simultaneously. Because the deckhouse surfaces are sloped, unless the lights are viewed dead-on, the three task lights do not present as being in a vertical line.

* * * * *

19. * * *

Vessel | Number | Distance in meters of sidelights above maximum allowed height
USS ZUMWALT | DDG 1000 | 2.55 PORT. 2.52 STBD.
* * * * * * *

* * * * *

22. * * *

Vessel | Number | Vertical Separation of the task light array is not equally spaced, the separation between the middle and lower task light exceed the separation between the upper and middle light by
* * * * * * *
USS ZUMWALT | DDG 1000 | FWD: 0.01 meter. AFT: 0.178 meter. PORT: 0.64 meter. STBD: 0.01 meter.
* * * * * * *

* * * * *

Table Five
Vessel | Number | Masthead lights not over all other lights and obstructions. annex I, sec. 2(f) | Forward masthead light not in forward quarter of ship. annex I, sec. 3(a) | After masthead light less than ½ ship's length aft of forward masthead light. annex I, sec.3(a) | Percentage horizontal separation attained
* * * * * * *
USS ZUMWALT | DDG 1000 | X | X | X | 76.94
* * * * * * *

Approved: November 18, 2015.
A.B. Fischer,
Captain, JAGC, U.S. Navy, Deputy Assistant Judge Advocate, General (Admiralty and Maritime Law).
Dated: December 10, 2015.
N.A. Hagerty-Ford,
Commander, Judge Advocate General's Corps, U.S. Navy, Federal Register Liaison Officer.

[FR Doc. 2015-33012 Filed 12-31-15; 8:45 am]

BILLING CODE 3810-FF-P